DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 21, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Food Distribution Programs.

OMB Control Number: 0584-0293.

Summary of Collection: The Food Distribution Programs of the Department of Agriculture (USDA), Food and Nutrition Service (FNS) assist American farmers and needy people by purchasing USDA donated foods and delivering them to State agencies that, in turn, distribute them to organizations who provide food assistance to those in need. The USDA donated foods help to meet the nutritional needs of: (a) Children from preschool age through high school in FNS Child Nutrition Programs and in nonprofit summer camps; (b) needy persons in households on Indian reservations participating in the Food Distribution Program on Indian Reservations (FDPIR) or the Food Distribution Program for Indian Households in Oklahoma (FDPIHO); (c) needy persons served by charitable institutions; (d) elderly persons participating in the Commodity Supplemental Food Program (CSFP); (e) low-income, unemployed or homeless people provided foods through household distributions or meals through soup kitchens under the Emergency Food Assistance Program (TEFAP); (f) pre-school and school-age children, elderly, and functionally impaired adults enrolled in child and adult day care centers participating in the Child and Adult Care Food Program (CACFP); and (g) victims of Presidentially-declared disasters and other situations of distress. The following authorizing legislation allows the Secretary broad authority to establish regulatory provisions governing accountability in the use of USDA donated foods by Federal, State, and private agencies: (a) Section 4(b) of the Food and Nutrition Act of 2008, as amended (7 U.S.C. 2013(b)); (b) Sections 6, 14, and 17 of the National School Lunch Act, as amended (42 U.S.C. 1755, 1762(a), 1766); (c) Section 4 of the Child Nutrition Act of 1966, as amended (42 U.S.C. 1733); (d) The Emergency Food Assistance Act of 1983, as amended (7 U.S.C. 7501 et seq.); and (e) Sections 4(a) and 5 of the Agriculture and Consumer Protection Act of 1973, as amended (7 U.S.C. 612c note).

Need and Use of the Information: FNS collects information from state and local agencies, for-profit and non-profit businesses, and individuals and households. This collection is mandatory for the states, local agencies, and the businesses, but it is required to obtain or maintain benefits for the individuals and households. The information collected from the state and local agencies is used for a variety of program activities such as ordering USDA foods; arranging for their delivery to storage facilities; sharing information concerning inaccurate or incomplete orders; providing inventory data; applying to participate in the programs and preparing plans to initiate or continue program operations; recovering unused funds; responding to audits; conducting on-site reviews; reporting on financial status and administrative costs; and other program monitoring activities. The information collected from the individuals and households permits them to apply for benefits (including assistance during disasters or situations of distress) or to recertify their eligibility. FNS uses this information to manage the Food Distribution Programs and monitor the use of Federal funds.

Description of Respondents: State, Local, or Tribal Government; Business or other for-profit; Not-for-profit institutions; and Individuals or households.

Number of Respondents: 756,147.

Frequency of Responses: Recordkeeping; Reporting: On occasion; Quarterly; Semi-annually; Monthly; and Annually.

Total Burden Hours: 1,218,438.

Ruth Brown,
Departmental Information Collection Clearance Officer.

[FR Doc. 2023-15484 Filed 7-20-23; 8:45 am]

BILLING CODE 3410-30-P